DEPARTMENT OF TRANSPORTATION

Federal Aviation Administration

14 CFR Part 97

[Docket No. 31016; Amdt. No. 3642]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 21, 2015. The compliance date for each SIAP, associated Takeoff Minimums, and ODP is specified in the amendatory provisions.

The incorporation by reference of certain publications listed in the regulations is approved by the Director of the Federal Register as of May 21, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC on April 24, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
28-May-15 | AL | Gadsden | Northeast Alabama Rgnl | 5/4765 | 03/24/15 | This NOTAM, published in TL 15-11, is hereby rescinded in its entirety.
28-May-15 | AL | Gadsden | Northeast Alabama Rgnl | 5/4766 | 03/24/15 | This NOTAM, published in TL 15-11, is hereby rescinded in its entirety.
28-May-15 | AL | Gadsden | Northeast Alabama Rgnl | 5/4767 | 03/24/15 | This NOTAM, published in TL 15-11, is hereby rescinded in its entirety.
28-May-15 | AL | Gadsden | Northeast Alabama Rgnl | 5/4768 | 03/24/15 | This NOTAM, published in TL 15-11, is hereby rescinded in its entirety.
28-May-15 | AL | Gadsden | Northeast Alabama Rgnl | 5/4769 | 03/24/15 | This NOTAM, published in TL 15-11, is hereby rescinded in its entirety.
28-May-15 | HI | Honolulu | Honolulu Intl | 5/6631 | 03/27/15 | This NOTAM, published in TL 15-11, is hereby rescinded in its entirety.
28-May-15 | MO | Marshall | Marshall Memorial Muni | 4/0075 | 04/14/15 | RNAV (GPS) Rwy 36, Amdt 3
28-May-15 | MO | Marshall | Marshall Memorial Muni | 4/0084 | 04/14/15 | NDB Rwy 36, Amdt 4
28-May-15 | MO | Kansas City | Charles B Wheeler Downtown | 4/0091 | 04/14/15 | RNAV (GPS) Rwy 21, Amdt 1B
28-May-15 | MO | Kansas City | Charles B Wheeler Downtown | 4/0094 | 04/14/15 | VOR Rwy 21, Amdt 14A
28-May-15 | MO | Kansas City | Charles B Wheeler Downtown | 4/0102 | 04/14/15 | RNAV (GPS) Rwy 3, Amdt 2
28-May-15 | MN | Two Harbors | Richard B Helgeson | 4/0103 | 04/14/15 | RNAV (GPS) Rwy 24, Orig-A
28-May-15 | MO | Kansas City | Charles B Wheeler Downtown | 4/0105 | 04/14/15 | VOR Rwy 3, Amdt 19
28-May-15 | MO | Kansas City | Charles B Wheeler Downtown | 4/0108 | 04/14/15 | ILS OR LOC Rwy 3, Amdt 4
28-May-15 | MN | Rochester | Rochester Intl | 4/0114 | 04/14/15 | RNAV (GPS) Rwy 2, Amdt 3
28-May-15 | MN | Rochester | Rochester Intl | 4/0115 | 04/14/15 | RNAV (GPS) Rwy 20, Amdt 2
28-May-15 | MN | Staples | Staples Muni | 4/0119 | 04/14/15 | RNAV (GPS) Rwy 32, Orig
28-May-15 | MN | Marshall | Southwest Minnesota Rgnl Marshall/Ryan Fld | 4/0189 | 04/14/15 | RNAV (GPS) Rwy 12, Amdt 1
28-May-15 | IN | Tell City | Perry County Muni | 4/0203 | 04/14/15 | RNAV (GPS) Rwy 31, Orig
28-May-15 | MN | Red Wing | Red Wing Rgnl | 4/0205 | 04/14/15 | ILS OR LOC Rwy 9, Amdt 1
28-May-15 | MN | Red Wing | Red Wing Rgnl | 4/0207 | 04/14/15 | RNAV (GPS) Rwy 9, Amdt 1
28-May-15 | MO | Eldon | Eldon Model Airpark | 4/0211 | 04/14/15 | RNAV (GPS) Rwy 18, Orig
28-May-15 | MN | Marshall | Southwest Minnesota Rgnl Marshall/Ryan Fld | 4/0353 | 04/14/15 | RNAV (GPS) Rwy 30, Orig-A
28-May-15 | MO | Mountain View | Mountain View | 4/0364 | 04/14/15 | RNAV (GPS) Rwy 28, Orig-A
28-May-15 | MI | Boyne City | Boyne City Muni | 4/0365 | 04/14/15 | RNAV (GPS) Rwy 27, Orig
28-May-15 | MI | Boyne City | Boyne City Muni | 4/0371 | 04/14/15 | RNAV (GPS) Rwy 9, Orig
28-May-15 | MN | Minneapolis | Airlake | 4/0394 | 04/14/15 | RNAV (GPS) Rwy 30, Orig
28-May-15 | MO | Moberly | Omar N Bradley | 4/0395 | 04/14/15 | RNAV (GPS) Rwy 13, Orig
28-May-15 | MO | Moberly | Omar N Bradley | 4/0404 | 04/14/15 | RNAV (GPS) Rwy 31, Orig
28-May-15 | MI | Clare | Clare Muni | 4/0406 | 04/14/15 | RNAV (GPS) Rwy 4, Orig
28-May-15 | MO | Aurora | Jerry Sumners Sr Aurora Muni | 4/0416 | 04/14/15 | RNAV (GPS) Rwy 36, Orig
28-May-15 | MN | Moose Lake | Moose Lake Carlton County | 4/0420 | 04/14/15 | RNAV (GPS) Rwy 4, Orig
28-May-15 | MO | Branson West | Branson West Muni-Emerson Field | 4/0427 | 04/14/15 | RNAV (GPS) Rwy 3, Amdt 1
28-May-15 | MI | Hillsdale | Hillsdale Muni | 4/0428 | 04/14/15 | RNAV (GPS) Rwy 10, Orig
28-May-15 | MN | Worthington | Worthington Muni | 4/0454 | 04/14/15 | VOR Rwy 11, Amdt 3
28-May-15 | MN | Worthington | Worthington Muni | 4/0470 | 04/14/15 | VOR Rwy 36, Amdt 6
28-May-15 | MN | Worthington | Worthington Muni | 4/0471 | 04/14/15 | RNAV (GPS) Rwy 11, Orig
28-May-15 | MN | Winona | Winona Muni-Max Conrad Fld | 4/0475 | 04/14/15 | RNAV (GPS) Rwy 30, Amdt 1
28-May-15 | MO | Houston | Houston Memorial | 4/0489 | 04/14/15 | RNAV (GPS) Rwy 34, Orig
28-May-15 | MN | Staples | Staples Muni | 4/0492 | 04/14/15 | NDB Rwy 14, Amdt 3
28-May-15 | MN | Staples | Staples Muni | 4/0493 | 04/14/15 | RNAV (GPS) Rwy 14, Orig
28-May-15 | MN | St Paul | St Paul Downtown Holman Fld | 4/0498 | 04/14/15 | RNAV (GPS) Rwy 14, Amdt 1
28-May-15 | MO | Gideon | Gideon Memorial | 4/0499 | 04/14/15 | RNAV (GPS) Rwy 15, Orig
28-May-15 | MO | Gideon | Gideon Memorial | 4/0500 | 04/14/15 | VOR Rwy 15, Amdt 3
28-May-15 | MN | Elbow Lake | Elbow Lake Muni-Pride Of The Prairie | 4/0505 | 04/14/15 | RNAV (GPS) Rwy 14, Orig
28-May-15 | MN | Elbow Lake | Elbow Lake Muni-Pride Of The Prairie | 4/0506 | 04/14/15 | RNAV (GPS) Rwy 32, Orig
28-May-15 | MO | Eldon | Eldon Model Airpark | 4/0507 | 04/14/15 | RNAV (GPS) Rwy 36, Orig
28-May-15 | MO | Cuba | Cuba Muni | 4/0508 | 04/14/15 | RNAV (GPS) Rwy 36, Orig-A
28-May-15 | MN | St Paul | Lake Elmo | 4/0509 | 04/14/15 | NDB Rwy 4, Amdt 5
28-May-15 | ND | Carrington | Carrington Muni | 4/0535 | 04/14/15 | RNAV (GPS) Rwy 31, Orig
28-May-15 | MN | Morris | Morris Muni-Charlie Schmidt Fld | 4/0561 | 04/14/15 | RNAV (GPS) Rwy 32, Amdt 1
28-May-15 | MN | Morris | Morris Muni-Charlie Schmidt Fld | 4/0562 | 04/14/15 | VOR Rwy 14, Amdt 1A
28-May-15 | MN | Fosston | Fosston Muni | 4/0683 | 04/15/15 | RNAV (GPS) Rwy 16, Orig-A
28-May-15 | MN | Morris | Morris Muni-Charlie Schmidt Fld | 4/0684 | 04/14/15 | RNAV (GPS) Rwy 14, Amdt 1
28-May-15 | MN | Morris | Morris Muni-Charlie Schmidt Fld | 4/0685 | 04/14/15 | VOR Rwy 32, Amdt 5A
28-May-15 | MI | Marquette | Sawyer Intl | 4/0695 | 04/14/15 | RNAV (GPS) Rwy 1, Orig
28-May-15 | MN | Hibbing | Range Rgnl | 4/0696 | 04/14/15 | RNAV (GPS) Rwy 31, Amdt 1
28-May-15 | IA | Albia | Albia Muni | 4/0699 | 04/15/15 | RNAV (GPS) Rwy 13, Orig
28-May-15 | IA | Albia | Albia Muni | 4/0702 | 04/15/15 | RNAV (GPS) Rwy 31, Amdt 1
28-May-15 | MN | Owatonna | Owatonna Degner Rgnl | 4/0703 | 04/14/15 | VOR Rwy 12, Amdt 10
28-May-15 | MN | Owatonna | Owatonna Degner Rgnl | 4/0704 | 04/14/15 | RNAV (GPS) Rwy 12, Amdt 1
28-May-15 | MN | Park Rapids | Park Rapids Muni-Konshok Field | 4/0705 | 04/14/15 | VOR/DME Rwy 13, Amdt 9
28-May-15 | MN | Park Rapids | Park Rapids Muni-Konshok Field | 4/0718 | 04/14/15 | RNAV (GPS) Rwy 13, Orig
28-May-15 | MN | Rochester | Rochester Intl | 4/0805 | 04/14/15 | RNAV (GPS) Rwy 31, Amdt 1
28-May-15 | MN | St Paul | Lake Elmo | 4/0806 | 04/14/15 | RNAV (GPS) Rwy 32, Amdt 1
28-May-15 | MO | Springfield | Springfield-Branson National | 4/0807 | 04/14/15 | ILS OR LOC Rwy 14, Orig-B
28-May-15 | MO | Springfield | Springfield-Branson National | 4/0808 | 04/14/15 | RNAV (GPS) Rwy 14, Amdt 2A
28-May-15 | MN | Two Harbors | Richard B Helgeson | 4/0856 | 04/14/15 | RNAV (GPS) Rwy 6, Orig
28-May-15 | IL | Springfield | Abraham Lincoln Capital | 4/0948 | 04/14/15 | VOR/DME Rwy 4, Orig
28-May-15 | IL | Springfield | Abraham Lincoln Capital | 4/0953 | 04/14/15 | RNAV (GPS) Rwy 4, Orig-B
28-May-15 | IL | Springfield | Abraham Lincoln Capital | 4/0955 | 04/14/15 | ILS OR LOC Rwy 4, Amdt 25E
28-May-15 | IL | Mount Vernon | Mount Vernon | 4/0985 | 04/14/15 | ILS OR LOC Rwy 23, Amdt 11B
28-May-15 | IN | Indianapolis | Indianapolis Metropolitan | 4/0995 | 04/14/15 | VOR Rwy 33, Amdt 10
28-May-15 | MN | Owatonna | Owatonna Degner Rgnl | 4/0998 | 04/14/15 | ILS OR LOC Rwy 30, Amdt 2B
28-May-15 | MN | Owatonna | Owatonna Degner Rgnl | 4/1000 | 04/14/15 | RNAV (GPS) Rwy 30, Orig-A
28-May-15 | IL | Macomb | Macomb Muni | 4/1090 | 04/14/15 | RNAV (GPS) Rwy 9, Amdt 1
28-May-15 | IL | Belleville | Scott AFB/MidAmerica | 4/5880 | 04/15/15 | ILS OR LOC/DME Rwy 14L, Orig-E
28-May-15 | IL | Belleville | Scott AFB/MidAmerica | 4/5973 | 04/15/15 | ILS OR LOC Rwy 32R, Orig-E
28-May-15 | CA | Little River | Little River | 5/1337 | 04/08/15 | RNAV (GPS) Rwy 29, Amdt 1
28-May-15 | TX | Dallas | Dallas Love Field | 5/1799 | 04/07/15 | ILS OR LOC Y Rwy 13L, Amdt 32B
28-May-15 | TX | Fredericksburg | Gillespie County | 5/1828 | 04/09/15 | RNAV (GPS) Rwy 32, Amdt 1A
28-May-15 | TX | Fredericksburg | Gillespie County | 5/1829 | 04/09/15 | VOR/DME A, Amdt 3A
28-May-15 | TX | Fredericksburg | Gillespie County | 5/1874 | 04/09/15 | RNAV (GPS) Rwy 14, Amdt 1A
28-May-15 | FL | Sarasota/Bradenton | Sarasota/Bradenton Intl | 5/2002 | 04/14/15 | RNAV (GPS) Rwy 4, Amdt 2
28-May-15 | FL | Sarasota/Bradenton | Sarasota/Bradenton Intl | 5/2003 | 04/14/15 | ILS OR LOC Rwy 14, Amdt 6
28-May-15 | FL | Sarasota/Bradenton | Sarasota/Bradenton Intl | 5/2004 | 04/14/15 | VOR Rwy 14, Amdt 18
28-May-15 | FL | Sarasota/Bradenton | Sarasota/Bradenton Intl | 5/2005 | 04/14/15 | RNAV (GPS) Rwy 14, Amdt 3
28-May-15 | FL | Sarasota/Bradenton | Sarasota/Bradenton Intl | 5/2006 | 04/14/15 | ILS OR LOC Rwy 32, Amdt 8
28-May-15 | FL | Sarasota/Bradenton | Sarasota/Bradenton Intl | 5/2007 | 04/14/15 | RNAV (GPS) Rwy 32, Amdt 3
28-May-15 | FL | Sarasota/Bradenton | Sarasota/Bradenton Intl | 5/2008 | 04/14/15 | VOR Rwy 32, Amdt 10
28-May-15 | FL | Sarasota/Bradenton | Sarasota/Bradenton Intl | 5/2009 | 04/14/15 | RNAV (GPS) Rwy 22, Amdt 2
28-May-15 | MN | St Paul | Lake Elmo | 5/2091 | 04/13/15 | Takeoff Minimums and (Obstacle) DP, Amdt 1
28-May-15 | FL | Jacksonville | Cecil | 5/2720 | 04/14/15 | ILS OR LOC Rwy 36R, Amdt 3
28-May-15 | FL | Jacksonville | Cecil | 5/2721 | 04/14/15 | RNAV (GPS) Rwy 9R, Amdt 1
28-May-15 | FL | Jacksonville | Cecil | 5/2722 | 04/14/15 | RNAV (GPS) Rwy 18R, Orig
28-May-15 | FL | Jacksonville | Cecil | 5/2723 | 04/14/15 | RNAV (GPS) Rwy 27L, Amdt 1
28-May-15 | FL | Jacksonville | Cecil | 5/2724 | 04/14/15 | RNAV (GPS) Rwy 36L, Orig-A
28-May-15 | FL | Jacksonville | Cecil | 5/2725 | 04/14/15 | RNAV (GPS) Rwy 36R, Amdt 1
28-May-15 | FL | Jacksonville | Cecil | 5/2726 | 04/14/15 | VOR Rwy 9R, Amdt 1
28-May-15 | FL | Jacksonville | Cecil | 5/2727 | 04/14/15 | TACAN Rwy 9R, Orig
28-May-15 | FL | Jacksonville | Cecil | 5/2728 | 04/14/15 | TACAN Rwy 27L, Orig
28-May-15 | FL | Jacksonville | Cecil | 5/2729 | 04/14/15 | RNAV (GPS) Rwy 18L, Amdt 1
28-May-15 | DC | Washington | Ronald Reagan Washington National | 5/2831 | 04/09/15 | RNAV (GPS) Rwy 33, Orig-A
28-May-15 | DC | Washington | Ronald Reagan Washington National | 5/2837 | 04/09/15 | VOR/DME OR GPS Rwy 15, Amdt 1C
28-May-15 | NC | Washington | Warren Field | 5/2889 | 04/09/15 | RNAV (GPS) Rwy 5, Amdt 1
28-May-15 | NC | Washington | Warren Field | 5/2891 | 04/09/15 | LOC Rwy 5, Amdt 1A
28-May-15 | FL | Orlando | Kissimmee Gateway | 5/2892 | 04/09/15 | RNAV (GPS) Rwy 6, Orig-A
28-May-15 | FL | Orlando | Kissimmee Gateway | 5/2893 | 04/09/15 | RNAV (GPS) Rwy 33, Amdt 2A
28-May-15 | MI | Houghton Lake | Roscommon County-Blodgett Memorial | 5/2922 | 04/14/15 | RNAV (GPS) Rwy 27, Amdt 1A
28-May-15 | MI | Houghton Lake | Roscommon County-Blodgett Memorial | 5/2924 | 04/14/15 | RNAV (GPS) Rwy 9, Amdt 2B
28-May-15 | MI | Houghton Lake | Roscommon County-Blodgett Memorial | 5/2925 | 04/14/15 | VOR Rwy 9, Amdt 5A
28-May-15 | MI | Houghton Lake | Roscommon County-Blodgett Memorial | 5/2927 | 04/14/15 | VOR Rwy 27, Amdt 4
28-May-15 | AL | Tuscaloosa | Tuscaloosa Rgnl | 5/3441 | 04/07/15 | ILS OR LOC Rwy 4, Amdt 14E
28-May-15 | FL | Lakeland | Lakeland Linder Rgnl | 5/3447 | 04/08/15 | VOR Rwy 27, Amdt 7E
28-May-15 | FL | Lakeland | Lakeland Linder Rgnl | 5/3448 | 04/08/15 | RNAV (GPS) Rwy 5, Orig-C
28-May-15 | WI | New Richmond | New Richmond Rgnl | 5/3758 | 03/20/15 | RNAV (GPS) Rwy 14, Amdt 2A
28-May-15 | WI | New Richmond | New Richmond Rgnl | 5/3759 | 03/20/15 | RNAV (GPS) Rwy 32, Amdt 2
28-May-15 | WI | Wautoma | Wautoma Muni | 5/3771 | 03/23/15 | RNAV (GPS) Rwy 31, Orig
28-May-15 | WI | Wautoma | Wautoma Muni | 5/3772 | 03/23/15 | RNAV (GPS) Rwy 13, Orig
28-May-15 | WA | Spokane | Felts Field | 5/5453 | 04/13/15 | ILS OR LOC/DME Rwy 22R, Amdt 1A
28-May-15 | CA | Hawthorne | Jack Northrop Field/Hawthorne Muni | 5/5466 | 04/13/15 | RNAV (GPS) Rwy 25, Orig-A
28-May-15 | CA | Tracy | Tracy Muni | 5/5467 | 04/14/15 | RNAV (GPS) Rwy 12, Amdt 1A
28-May-15 | AZ | Prescott | Ernest A Love Field | 5/5468 | 04/13/15 | ILS OR LOC/DME Rwy 21L, Amdt 4
28-May-15 | MO | Springfield | Springfield-Branson National | 5/5490 | 04/13/15 | VOR OR TACAN Rwy 20, Amdt 18D
28-May-15 | MO | Springfield | Springfield-Branson National | 5/5497 | 04/13/15 | VOR/DME OR TACAN Rwy 2, Orig-C
28-May-15 | NE | Fairbury | Fairbury Muni | 5/5672 | 04/13/15 | RNAV (GPS) Rwy 17, Orig-A
28-May-15 | NE | Fairbury | Fairbury Muni | 5/5673 | 04/13/15 | RNAV (GPS) Rwy 35, Orig
28-May-15 | NE | Fairbury | Fairbury Muni | 5/5674 | 04/13/15 | NDB-A, Amdt 3A
28-May-15 | IL | Salem | Salem-Leckrone | 5/5778 | 04/14/15 | RNAV (GPS) Rwy 36, Amdt 1
28-May-15 | TX | College Station | Easterwood Field | 5/5781 | 04/14/15 | RNAV (GPS) Rwy 34, Amdt 1
28-May-15 | TX | San Antonio | San Antonio Intl | 5/5798 | 04/14/15 | RNAV (RNP) Z Rwy 30L, Orig
28-May-15 | TX | San Antonio | San Antonio Intl | 5/5802 | 04/14/15 | RNAV (GPS) Y Rwy 22, Amdt 2
28-May-15 | TX | San Antonio | San Antonio Intl | 5/5805 | 04/14/15 | RNAV (RNP) Z Rwy 22, Amdt 1
28-May-15 | TX | San Antonio | San Antonio Intl | 5/5807 | 04/14/15 | RNAV (RNP) Z Rwy 12R, Orig-A
28-May-15 | TX | San Antonio | San Antonio Intl | 5/5809 | 04/14/15 | RNAV (GPS) Y Rwy 4, Amdt 3
28-May-15 | TX | San Antonio | San Antonio Intl | 5/5810 | 04/14/15 | ILS OR LOC Rwy 4, Amdt 22
28-May-15 | TX | San Antonio | San Antonio Intl | 5/5813 | 04/14/15 | RNAV (RNP) Z Rwy 4, Orig-A
28-May-15 | IL | Moline | Quad City Intl | 5/6045 | 04/15/15 | RNAV (GPS) Rwy 27, Amdt 1A
28-May-15 | IL | Moline | Quad City Intl | 5/6046 | 04/15/15 | RNAV (GPS) Rwy 9, Amdt 1A
28-May-15 | TX | Pecos | Pecos Muni | 5/6047 | 04/15/15 | RNAV (GPS) Rwy 32, Orig
28-May-15 | TX | Plains | Yoakum County | 5/6048 | 04/14/15 | RNAV (GPS) Rwy 3, Amdt 1
28-May-15 | TX | Houston | George Bush Intercontinental/Houston | 5/6196 | 04/14/15 | RNAV (GPS) Z Rwy 26R, Amdt 4
28-May-15 | WY | Jackson | Jackson Hole | 5/6481 | 04/14/15 | VOR/DME Rwy 19, Orig
28-May-15 | TX | Gruver | Gruver Muni | 5/6739 | 04/15/15 | RNAV (GPS) Rwy 20, Orig
28-May-15 | IL | Marion | Williamson County Rgnl | 5/6745 | 04/15/15 | RNAV (GPS) Rwy 2, Amdt 1A
28-May-15 | IL | Marion | Williamson County Rgnl | 5/6746 | 04/15/15 | RNAV (GPS) Rwy 20, Amdt 1A
28-May-15 | FL | Destin | Destin-Fort Walton Beach | 5/6986 | 04/15/15 | RNAV (GPS) Rwy 14, Amdt 2A
28-May-15 | FL | Destin | Destin-Fort Walton Beach | 5/6987 | 04/15/15 | RNAV (GPS) Rwy 32, Amdt 1A
28-May-15 | FL | Destin | Destin-Fort Walton Beach | 5/6988 | 04/15/15 | Takeoff Minimums and (Obstacle) DP, Orig-A
28-May-15 | WV | Petersburg | Grant County | 5/7047 | 04/09/15 | RNAV (GPS) Y Rwy 31, Orig
28-May-15 | VA | Quinton | New Kent County | 5/7048 | 04/09/15 | RNAV (GPS) Rwy 29, Amdt 2
28-May-15 | VA | Quinton | New Kent County | 5/7049 | 04/09/15 | RNAV (GPS) Rwy 11, Amdt 2
28-May-15 | WV | Martinsburg | Eastern WV Rgnl/Shepherd Fld | 5/7050 | 04/09/15 | RNAV (GPS) Rwy 8, Amdt 1
28-May-15 | MI | Detroit | Coleman A Young Muni | 5/7057 | 04/15/15 | ILS OR LOC Rwy 33, Amdt 14A
28-May-15 | MI | Detroit | Coleman A Young Muni | 5/7058 | 04/15/15 | NDB Rwy 15, Amdt 23
28-May-15 | MI | Detroit | Coleman A Young Muni | 5/7059 | 04/15/15 | RNAV (GPS) Rwy 15, Orig
28-May-15 | MI | Detroit | Coleman A Young Muni | 5/7061 | 04/15/15 | RNAV (GPS) Rwy 33, Orig-A
28-May-15 | MI | Detroit | Coleman A Young Muni | 5/7065 | 04/15/15 | VOR Rwy 33, Amdt 28
28-May-15 | MI | Detroit | Coleman A Young Muni | 5/7066 | 04/15/15 | ILS OR LOC Rwy 15, Amdt 10A
28-May-15 | WV | Beckley | Raleigh County Memorial | 5/7069 | 04/09/15 | RNAV (GPS) Rwy 28, Amdt 1
28-May-15 | WV | Beckley | Raleigh County Memorial | 5/7070 | 04/09/15 | RNAV (GPS) Rwy 19, Amdt 1
28-May-15 | WV | Beckley | Raleigh County Memorial | 5/7071 | 04/09/15 | ILS OR LOC Rwy 19, Amdt 6
28-May-15 | WV | Beckley | Raleigh County Memorial | 5/7072 | 04/09/15 | RNAV (GPS) Rwy 10, Amdt 1
28-May-15 | WV | Beckley | Raleigh County Memorial | 5/7073 | 04/09/15 | RNAV (GPS) Rwy 1, Amdt 1
28-May-15 | TX | Perryton | Perryton Ochiltree County | 5/7080 | 04/15/15 | RNAV (GPS) Rwy 35, Amdt 1
28-May-15 | TX | Perryton | Perryton Ochiltree County | 5/7081 | 04/15/15 | RNAV (GPS) Rwy 17, Orig
28-May-15 | NC | Lumberton | Lumberton Rgnl | 5/7124 | 04/15/15 | ILS OR LOC Rwy 5, Amdt 1B
28-May-15 | NC | Oak Island | Cape Fear Rgnl Jetport/Howie Franklin Fld | 5/7130 | 04/15/15 | RNAV (GPS) Rwy 23, Orig-B
28-May-15 | NC | Oak Island | Cape Fear Rgnl Jetport/Howie Franklin Fld | 5/7131 | 04/15/15 | RNAV (GPS) Rwy 5, Amdt 1C
28-May-15 | KY | Mount Sterling | Mount Sterling-Montgomery County | 5/7151 | 04/15/15 | RNAV (GPS) Rwy 3, Orig-A
28-May-15 | KY | Mount Sterling | Mount Sterling-Montgomery County | 5/7152 | 04/15/15 | NDB Rwy 3, Amdt 2A
28-May-15 | VA | Richmond | Richmond Intl | 5/7153 | 04/15/15 | RNAV (GPS) Z Rwy 2, Amdt 1A
28-May-15 | VA | Richmond | Richmond Intl | 5/7154 | 04/15/15 | RNAV (RNP) Y Rwy 34, Orig-A
28-May-15 | VA | Richmond | Richmond Intl | 5/7155 | 04/15/15 | ILS OR LOC Rwy 34, ILS Rwy 34 (SA CAT I), ILS Rwy 34 (CAT II & III), Amdt 14
28-May-15 | VA | Richmond | Richmond Intl | 5/7156 | 04/15/15 | RNAV (GPS) Rwy 25, Amdt 1
28-May-15 | VA | Richmond | Richmond Intl | 5/7158 | 04/15/15 | RNAV (GPS) Z Rwy 20, Amdt 2A
28-May-15 | VA | Richmond | Richmond Intl | 5/7159 | 04/15/15 | RNAV (RNP) Y Rwy 20, Orig
28-May-15 | VA | Richmond | Richmond Intl | 5/7160 | 04/15/15 | RNAV (GPS) Z Rwy 16, Amdt 1A
28-May-15 | VA | Richmond | Richmond Intl | 5/7161 | 04/15/15 | RNAV (RNP) Y Rwy 16, Orig-A
28-May-15 | VA | Richmond | Richmond Intl | 5/7162 | 04/15/15 | ILS OR LOC Rwy 16, Amdt 9
28-May-15 | VA | Richmond | Richmond Intl | 5/7163 | 04/15/15 | RNAV (GPS) Rwy 7, Amdt 1
28-May-15 | VA | Richmond | Richmond Intl | 5/7164 | 04/15/15 | VOR Rwy 2, Amdt 6
28-May-15 | VA | Richmond | Richmond Intl | 5/7165 | 04/15/15 | RNAV (RNP) Y Rwy 2, Orig
28-May-15 | VA | Richmond | Richmond Intl | 5/7166 | 04/15/15 | ILS OR LOC Rwy 2, Amdt 2
28-May-15 | VA | Richmond | Richmond Intl | 5/7167 | 04/15/15 | RNAV (GPS) Z Rwy 34, Amdt 1A
28-May-15 | PA | Pittsburgh | Pittsburgh Intl | 5/7174 | 04/15/15 | RNAV (GPS) Y Rwy 28L, Amdt 4B
28-May-15 | FL | St Petersburg-Clearwater | St Pete-Clearwater Intl | 5/7193 | 04/09/15 | ILS OR LOC Rwy 18L, ILS Rwy 18L (SA CAT I), ILS Rwy 18L (CAT II), Amdt 22A
28-May-15 | FL | St Petersburg-Clearwater | St Pete-Clearwater Intl | 5/7194 | 04/09/15 | RNAV (GPS) Rwy 18L, Amdt 1B
28-May-15 | KS | Goodland | Renner Fld/Goodland Muni/ | 5/7230 | 04/15/15 | VOR/DME Rwy 30, Amdt 8A
28-May-15 | RJ | Mayaguez | Eugenio Maria De Hostos | 5/7540 | 04/03/15 | RNAV (GPS) Rwy 9, Orig-A
28-May-15 | FL | Jacksonville | Jacksonville Executive At Craig | 5/7624 | 04/09/15 | RNAV (GPS) Rwy 14, Amdt 1
28-May-15 | FL | Jacksonville | Jacksonville Executive At Craig | 5/7625 | 04/09/15 | RNAV (GPS) Rwy 32, Amdt 1
28-May-15 | FL | Jacksonville | Jacksonville Executive At Craig | 5/7626 | 04/09/15 | VOR/DME Rwy 32, Amdt 3
28-May-15 | FL | Jacksonville | Jacksonville Executive At Craig | 5/7627 | 04/09/15 | VOR Rwy 14, Amdt 5
28-May-15 | FL | Jacksonville | Jacksonville Intl | 5/7629 | 04/09/15 | ILS OR LOC Rwy 14, Amdt 7A
28-May-15 | FL | Jacksonville | Jacksonville Executive At Craig | 5/7739 | 04/09/15 | ILS OR LOC Rwy 32, Amdt 5
28-May-15 | FL | Defuniak Springs | Defuniak Springs | 5/7741 | 04/09/15 | RNAV (GPS) Rwy 27, Amdt 1
28-May-15 | FL | St Petersburg-Clearwater | St Pete-Clearwater Intl | 5/7814 | 04/09/15 | VOR Rwy 4, Amdt 1A
28-May-15 | FL | Miami | Opa-Locka Executive | 5/7822 | 04/09/15 | ILS OR LOC Rwy 12, Amdt 2
28-May-15 | FL | Miami | Opa-Locka Executive | 5/7824 | 04/09/15 | RNAV (GPS) Rwy 27R, Orig-A
28-May-15 | FL | Miami | Opa-Locka Executive | 5/7830 | 04/09/15 | ILS OR LOC Rwy 9L, Amdt 5
28-May-15 | FL | Miami | Opa-Locka Executive | 5/7831 | 04/09/15 | RNAV (GPS) Rwy 9L, Orig
28-May-15 | FL | Miami | Opa-Locka Executive | 5/8188 | 04/09/15 | RNAV (GPS) Rwy 12, Orig
28-May-15 | FL | Miami | Opa-Locka Executive | 5/8189 | 04/09/15 | ILS OR LOC Rwy 27R, Amdt 1A
28-May-15 | FL | Fort Pierce | St Lucie County Intl | 5/8203 | 04/09/15 | RNAV (GPS) Rwy 28L, Amdt 1
28-May-15 | FL | Fort Pierce | St Lucie County Intl | 5/8204 | 04/09/15 | NDB Rwy 28L, Amdt 2
28-May-15 | FL | Orlando | Executive | 5/8205 | 04/07/15 | ILS OR LOC Rwy 7, Amdt 23
28-May-15 | FL | Orlando | Executive | 5/8206 | 04/07/15 | RNAV (GPS) Rwy 7, Amdt 1
28-May-15 | FL | Orlando | Executive | 5/8207 | 04/07/15 | RNAV (GPS) Rwy 25, Amdt 2
28-May-15 | FL | St Petersburg-Clearwater | St Pete-Clearwater Intl | 5/8219 | 04/09/15 | VOR/DME Rwy 18L, Amdt 1B
28-May-15 | FL | St Petersburg-Clearwater | St Pete-Clearwater Intl | 5/8220 | 04/09/15 | RNAV (GPS) Rwy 36R, Amdt 2B
28-May-15 | DE | Dover/Cheswold | Delaware Airpark | 5/8222 | 04/09/15 | RNAV (GPS) Rwy 9, Amdt 2
28-May-15 | DE | Dover/Cheswold | Delaware Airpark | 5/8223 | 04/09/15 | VOR Rwy 27, Amdt 6B
28-May-15 | DE | Dover/Cheswold | Delaware Airpark | 5/8224 | 04/09/15 | RNAV (GPS) Rwy 27, Amdt 1A
28-May-15 | CT | Hartford | Hartford-Brainard | 5/8226 | 04/09/15 | LDA Rwy 2, Amdt 2A
28-May-15 | CT | Hartford | Hartford-Brainard | 5/8227 | 04/09/15 | RNAV (GPS) Rwy 2, Orig-A
28-May-15 | FL | Plant City | Plant City | 5/8230 | 04/09/15 | RNAV (GPS) Rwy 10, Amdt 1A
28-May-15 | DC | Washington | Manassas Rgnl/Harry P Davis Field | 5/8232 | 04/09/15 | RNAV (GPS) Rwy 34R, Amdt 2
28-May-15 | DC | Washington | Manassas Rgnl/Harry P Davis Field | 5/8235 | 04/09/15 | RNAV (GPS) Rwy 16R, Amdt 1A
28-May-15 | AL | Jasper | Walker County-Bevill Field | 5/8332 | 04/09/15 | RNAV (GPS) Rwy 9, Orig
28-May-15 | FL | Fort Myers | Southwest Florida Intl | 5/8345 | 04/09/15 | ILS OR LOC/DME Rwy 6, Amdt 7
28-May-15 | FL | Sebring | Sebring Rgnl | 5/8366 | 04/09/15 | RNAV (GPS) Rwy 32, Orig
28-May-15 | FL | Sebring | Sebring Rgnl | 5/8367 | 04/09/15 | RNAV (GPS) Rwy 14, Orig-A
28-May-15 | FL | Sebring | Sebring Rgnl | 5/8368 | 04/09/15 | RNAV (RNP) Rwy 19, Amdt 1
28-May-15 | FL | Sebring | Sebring Rgnl | 5/8369 | 04/09/15 | RNAV (GPS) Rwy 1, Amdt 1
28-May-15 | FL | Fort Myers | Southwest Florida Intl | 5/8383 | 04/09/15 | VOR/DME OR TACAN Rwy 24, Amdt 2A
28-May-15 | FL | Orlando | Executive | 5/8413 | 04/07/15 | ILS OR LOC Rwy 25, Orig
28-May-15 | FL | Orlando | Orlando Sanford Intl | 5/8425 | 04/14/15 | RNAV (GPS) Rwy 18, Orig-B
28-May-15 | FL | Orlando | Orlando Sanford Intl | 5/8426 | 04/14/15 | RNAV (GPS) Rwy 9L, Amdt 3
28-May-15 | FL | Orlando | Orlando Sanford Intl | 5/8427 | 04/14/15 | ILS OR LOC Rwy 9R, Amdt 1
28-May-15 | FL | Orlando | Orlando Sanford Intl | 5/8428 | 04/14/15 | RNAV (GPS) Rwy 9R, Amdt 1
28-May-15 | FL | Orlando | Orlando Sanford Intl | 5/8430 | 04/14/15 | RNAV (GPS) Rwy 27L, Orig
28-May-15 | FL | Orlando | Orlando Sanford Intl | 5/8431 | 04/14/15 | RNAV (GPS) Rwy 27R, Amdt 3
28-May-15 | FL | Orlando | Orlando Sanford Intl | 5/8432 | 04/14/15 | ILS OR LOC Rwy 27R, Amdt 3
28-May-15 | FL | St Augustine | Northeast Florida Rgnl | 5/8435 | 04/09/15 | RNAV (GPS) Rwy 31, Amdt 1B
28-May-15 | TN | Crossville | Crossville Memorial-Whitson Field | 5/8436 | 04/09/15 | ILS Y OR LOC Y Rwy 26, Orig
28-May-15 | TN | Crossville | Crossville Memorial-Whitson Field | 5/8437 | 04/09/15 | ILS Z OR LOC Z Rwy 26, Amdt 14
28-May-15 | FL | Jacksonville | Jacksonville Intl | 5/8449 | 04/09/15 | ILS OR LOC Rwy 8, ILS Rwy 8 (SA CAT I), ILS Rwy 8 (CAT II & III), Amdt 13
28-May-15 | FL | Jacksonville | Jacksonville Intl | 5/8450 | 04/09/15 | RNAV (RNP) Y Rwy 32, Amdt 1
28-May-15 | FL | Jacksonville | Jacksonville Intl | 5/8451 | 04/09/15 | RNAV (GPS) Z Rwy 32, Amdt 2B
28-May-15 | FL | Jacksonville | Jacksonville Intl | 5/8452 | 04/09/15 | VOR/DME Rwy 32, Amdt 2A
28-May-15 | FL | Jacksonville | Jacksonville Intl | 5/8453 | 04/09/15 | RNAV (GPS) Z Rwy 14, Amdt 2A
28-May-15 | AZ | Safford | Safford Rgnl | 5/8728 | 04/06/15 | RNAV (GPS) Rwy 30, Orig-A
28-May-15 | AZ | Safford | Safford Rgnl | 5/8731 | 04/06/15 | RNAV (GPS) Rwy 12, Orig-B
28-May-15 | MD | Frederick | Frederick Muni | 5/8849 | 04/07/15 | ILS OR LOC Rwy 23, Amdt 5D
28-May-15 | MD | Frederick | Frederick Muni | 5/8850 | 04/07/15 | RNAV (GPS) Rwy 5, Orig-B
28-May-15 | MD | Frederick | Frederick Muni | 5/8851 | 04/07/15 | RNAV (GPS) Y Rwy 23, Amdt 1B
28-May-15 | MD | Frederick | Frederick Muni | 5/8853 | 04/07/15 | RNAV (GPS) Z Rwy 23, Orig-D
28-May-15 | MD | Frederick | Frederick Muni | 5/8854 | 04/07/15 | VOR A, Amdt 2C
28-May-15 | WV | Buckhannon | Upshur County Rgnl | 5/8866 | 04/14/15 | RNAV (GPS) Rwy 29, Amdt 2
28-May-15 | WV | Buckhannon | Upshur County Rgnl | 5/8867 | 04/14/15 | RNAV (GPS) Rwy 11, Amdt 2
28-May-15 | WV | Buckhannon | Upshur County Rgnl | 5/8868 | 04/14/15 | VOR A, Amdt 1
28-May-15 | WV | Summersville | Summersville | 5/8869 | 04/09/15 | RNAV (GPS) Rwy 4, Orig
28-May-15 | VA | Clarksville | Lake Country Regional | 5/8880 | 04/09/15 | RNAV (GPS) Rwy 4, Orig-A
28-May-15 | VA | Waynesboro | Eagle's Nest | 5/8881 | 04/09/15 | RNAV (GPS) Rwy 6, Orig
28-May-15 | VA | Waynesboro | Eagle's Nest | 5/8882 | 04/09/15 | RNAV (GPS) Rwy 24, Orig
28-May-15 | WV | Logan | Logan County | 5/8883 | 04/09/15 | RNAV (GPS) Rwy 24, Orig
28-May-15 | WV | Logan | Logan County | 5/8886 | 04/09/15 | RNAV (GPS) Rwy 6, Orig
28-May-15 | MO | Springfield | Springfield-Branson National | 5/9382 | 04/20/15 | RNAV (GPS) Rwy 20, Amdt 2A
28-May-15 | MO | Springfield | Springfield-Branson National | 5/9383 | 04/20/15 | RNAV (GPS) Rwy 2, Amdt 2A

[FR Doc. 2015-12108 Filed 5-20-15; 8:45 am]

BILLING CODE 4910-13-P